EXPORT-IMPORT BANK OF THE U.S.

[Public Notice 2012-0088]

Agency Information Collection Activities: Final Collection; Comment Request

AGENCY: Export-Import Bank of the U.S.

ACTION: Submission for OMB review and comments request.

Form Title: EIB 99-14 Export-Import Bank Trade Reference form.

SUMMARY: The Export-Import Bank of the United States (Ex-Im Bank), as a part of its continuing effort to reduce paperwork and respondent burden, invites the general public and other Federal Agencies to comment on the proposed information collection, as required by the Paperwork Reduction Act of 1995.

EIB 99-14 Trade Reference form provides essential credit information used by Ex-Im Bank credit officers when analyzing requests for export credit insurance/financing support, both short-term (360 days and less) and medium-term (longer than 360 days), for the export of their U.S. goods and services. Additionally, this form is an integral part of the short-term Multi-Buyer export credit insurance policy for those policyholders granted foreign buyer discretionary credit limit authority (DCL). Multi-Buyer policy holders given DCL authority may use this form as the sole source or one piece among several sources of credit information for their internal foreign buyer credit decision which, in turn, commits Ex-Im's insurance.

Ex-Im Bank and its Multi-Buyer policyholders use the Trade Reference Form approximately 6,500 times annually. Thus the Trade Reference Form is critical to Ex-Im Bank and in particular to over 2,300 Multi-Buyer policyholders during their foreign buyer credit review process.

The form can be viewed at www.exim.gov/pub/pending/eib99-14.pdf.

DATES: Comments should be received on or before (insert 30 days after publication) to be assured of consideration.

ADDRESSES: Comments may be submitted electronically on WWW.REGULATIONS.GOV or by mail to Jean Fitzgibbon, Export-Import Bank of the United States, 811 Vermont Ave. NW., Washington, DC 20571.

SUPPLEMENTARY INFORMATION:

Titles and Form Number: EIB 99-14 Export-Import Bank Trade Reference form.

OMB Number: 3048-xxx.

Type of Review: Regular.

Need and Use: This form provides essential credit information used by Ex-Im Bank credit officers when analyzing requests for export credit insurance/financing support, both short-term (360 days and less) and medium-term (longer than 360 days), for the export of their U.S. goods and services. Additionally, this form is an integral part of the short-term Multi-Buyer export credit insurance policy for those policyholders granted foreign buyer discretionary credit limit authority (DCL). Multi-Buyer policy holders given DCL authority may use this form as the sole source or one piece among several sources of credit information for their internal foreign buyer credit decision which, in turn, commits Ex-Im's insurance.

Affected Public: This form affects entities involved in the export of U.S. goods and services.

Annual Number of Respondents: 6,500.

Estimated Time per Respondent: 15 minutes.

Government Annual Burden Hours: 1,625 hours.

Government Annual Cost: $62,921.

Frequency of Reporting or Use: As needed.

Sharon A. Whitt,
Agency Clearance Officer.

[FR Doc. 2012-17390 Filed 7-16-12; 8:45 am]

BILLING CODE 6690-01-P